DEPARTMENT OF TRANSPORTATION

Surface Transportation Board

[Docket No. FD 35447]

Temple & Central Texas Railway, Inc.—Operation Exemption—City of Temple, TX.

Temple & Central Texas Railway, Inc. (TCTR),¹ a Class III carrier, has filed a verified notice of exemption under 49 CFR 1150.41 to operate, pursuant to a Railroad License and Operating Agreement with the City of Temple, Tex. (Temple), an approximately 6.277-mile line of railroad, between milepost 0.0, near Belton, and milepost 6.277, at Smith, in Bell County, Tex. (the line), and the trackage rights granted to the Georgetown Railroad Company (Georgetown) to operate over the line.²

¹ TCTR has also concurrently filed a motion for protective order pursuant to 49 CFR 1104.14(b) to allow TCTR to file the unredacted Railroad License and Operating Agreement under seal. That motion will be addressed in a separate decision.

² Temple is not a carrier. TCTR states that Temple is filing a petition with the Board to acquire the line from Georgetown.

TCTR certifies that the projected annual revenues as a result of the proposed transaction will not exceed those that would qualify it as a Class III carrier and will not exceed $5 million.

TCTR states that it expects the transaction to be consummated by February 10, 2011. The earliest this transaction can be consummated is December 24, 2010, the effective date of the exemption (30 days after the exemption was filed).

If the verified notice contains false or misleading information, the exemption is void ab initio. Petitions to revoke the exemption under 49 U.S.C. 10502(d) may be filed at any time. The filing of a petition to revoke will not automatically stay the effectiveness of the exemption. Stay petitions must be filed no later than December 17, 2010 (at least 7 days before the exemption becomes effective).

An original and 10 copies of all pleadings, referring to Docket No. FD 35447, must be filed with the Surface Transportation Board, 395 E Street, SW., Washington, DC 20423-0001. In addition, a copy of each pleading must be served on Louis E. Gitomer, Law Offices of Louis E. Gitomer, 600 Baltimore Avenue, Suite 301, Towson, MD 21204.

Board decisions and notices are available on our Web site at http://www.stb.dot.gov.

Decided: December 7, 2010.
By the Board, Rachel D. Campbell, Director, Office of Proceedings.
Andrea Pope-Matheson,
Clearance Clerk.

[FR Doc. 2010-31081 Filed 12-9-10; 8:45 am]

BILLING CODE 4915-01-P